ENVIRONMENTAL PROTECTION AGENCY

[EPA-HQ-ORD-2013-0282; FRL-9810-6]

Proposed Information Collection Request; Comment Request; Willingness To Pay Survey for Santa Cruz River Management Options in Southern Arizona

AGENCY: Environmental Protection Agency (EPA).

ACTION: Notice.

SUMMARY: The Environmental Protection Agency is planning to submit an information collection request (ICR), “Willingness To Pay Survey for Santa Cruz River Management Options in Southern Arizona” (EPA ICR No. 2484.01, OMB Control No. 2080-NEW) to the Office of Management and Budget (OMB) for review and approval in accordance with the Paperwork Reduction Act (44 U.S.C. 3501 et seq.). Before doing so, EPA is soliciting public comments on specific aspects of the proposed information collection as described below. This is a request for approval of a new collection. An Agency may not conduct or sponsor and a person is not required to respond to a collection of information unless it displays a currently valid OMB control number.

DATES: Comments must be submitted on or before July 8, 2013.

ADDRESSES: Submit your comments, referencing Docket ID No. EPA-HQ-ORD-2013-0282 online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Matthew A. Weber, Environmental Protection Agency, Western Ecology Division, 200 SW. 35th St., Corvallis, OR 97333; telephone number: 541-754-4315; fax number: 541-754-4799; email address: weber.matthew@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The USEPA Office of Research and Development is investigating public values for scenarios of change for perennial reaches of the effluent-dominated Santa Cruz River, Arizona. These values will be estimated via a willingness to pay mail survey instrument. There are two effluent-dominated perennial reaches considered in the survey. A “South” reach starts at an outfall in Rio Rico, AZ, and flows northward through Tumacácori National Historical Park. A “North” reach is fed by two outfalls in northwest Tucson, Arizona, flows northwest through Marana, AZ. For each of the South and North reaches, two different scenarios of change are considered. The first is a reduction in flow length, and associated decreases in cottonwood-willow riparian forest, a rare forest type in the region. The second is an increase in water quality to allow full contact recreation, such as submersion, at normal flow levels. The baseline flow length and forest acreages, as well as the acreages of forest that would be associated with reduced flow lengths, are derived from natural science research. For the survey, a choice experiment framework is used with statistically designed tradeoff questions. Options to maintain flow length and forest, or increase effluent water quality, are posed as increases in a yearly household tax. Each choice question allows a zero cost “opt out” option. The choice experiment is designed to allow isolation of the public value of each marginal change for each reach. A few additional questions to further understand respondent choice motivations, as well as their river-related recreation behavior, are also included. Several pages of background introduce the issue to respondents. A small number of sociodemographic questions are included to gauge how well the sample respondents represent the target population. Samples of the two major metropolitan areas in southern Arizona, Phoenix and Tucson, will receive the survey. The primary reason for the survey is public value research. The Santa Cruz River is a case study of a waterway highly impacted by human modifications. However it still represents potentially valuable ecological commodities such as rare riparian habitat and recreational opportunities for the regional population. The survey results may also be informative to local decision-makers considering Santa Cruz River management options. Water scarcity in the region raises periodic debates on the best uses of effluent. All survey responses will be kept confidential.

Form Numbers: None.

Respondents/affected entities: The target respondents for this survey are representatives 18 yrs or older of households in the two most populated urban areas of Arizona, the Phoenix metro area, and the Tucson metro area. A sample of household representatives 18 yrs or older in each metro area will be contacted by mail following multiple contact protocol in Dillman (2009). A response rate of 30% will be targeted. To increase response rates from the sample, several contacts will be used, including a prenotice to all recipients, a reminder postcard, and followup mailing as needed.

Respondent's obligation to respond: Voluntary.

Estimated number of respondents: The target responses from the Phoenix and Tucson metro areas is 250 households each, or 500 households total.

Frequency of response: One-time response.

Total estimated burden: For a typical respondent, a conservative estimate of their time to review and respond to survey questions is 30 minutes. Assuming the target of 500 people total respond to the survey, the burden is 250 hours.

Total estimated cost: The Bureau of Labor Statistics reports average wage rates for some metropolitan areas, with the most recent data being May 2011 (Bureau of Labor Statistics, 2011). The average hourly wage for all occupations in the Phoenix metro area was $21.61, or an average cost per participant of $10.81. The average hourly wage for all occupations in the Tucson metro area was $20.55, or an average cost per participant of $10.28. Assuming 250 participants in each metro area fill out the survey, the total estimated respondent labor cost is $5,270. This would be a one-time expenditure of their time.

Changes in Estimates: This is the first notice, there is no change in estimates at this time.

Dated: April 19, 2013.
Thomas Fontaine III,
Western Ecology Division Director.

[FR Doc. 2013-10932 Filed 5-7-13; 8:45 am]

BILLING CODE 6560-50-P